ENVIRONMENTAL PROTECTION AGENCY

40 CFR Part 52

[EPA-R01-OAR-2025-2895; FRL-13084-01-R1]

Air Plan Approval; Connecticut; Revised Format for Materials Incorporated by Reference

AGENCY: Environmental Protection Agency (EPA).

ACTION: Final rule; administrative change.

SUMMARY: The Environmental Protection Agency (EPA) is revising the format for materials that are made part of the Connecticut State Implementation Plan (SIP) through the process of incorporation by reference (IBR). The regulations and materials affected by this format change have all been previously submitted by Connecticut and approved by EPA as part of the SIP.

DATES: This action is effective on February 9, 2026.

ADDRESSES: EPA has established a docket for this action under Docket ID No. EPA-R01-OAR-2025-2895. SIP materials which are incorporated by reference into 40 CFR part 52 are available for inspection by appointment at Environmental Protection Agency, Region 1, 5 Post Office Square, Boston, Massachusetts 02109-3912. For information on the availability of this material at the EPA Regional Office, please contact the person in the FOR FURTHER INFORMATION CONTACT section of this document.

FOR FURTHER INFORMATION CONTACT: Patrick Lillis, Air and Radiation Division, Environmental Protection Agency, Region 1, 5 Post Office Square—Suite 100, Boston, MA 02109, (617) 917-1067, lillis.patrick@epa.gov.

SUPPLEMENTARY INFORMATION: Throughout this document, wherever “we,” “us” or “our” is used, it is intended to refer to EPA.

Table of Contents

I. Background

A. Description of a SIP

B. How EPA Enforces SIPs

C. How the State and EPA Update the SIP

D. How EPA Compiles the SIPs

E. How EPA Organizes the SIP Compilation

F. Where You Can Find a Copy of the SIP Compilation

G. The Format of the New Identification of Plan Section

H. When a SIP Revision Becomes Part of the SIP and Federally Enforceable

I. The Historical Record of SIP Revision Approvals

II. What EPA Is Doing in This Action

III. Incorporation by Reference

IV. Statutory and Executive Order Reviews

I. Background

A. Description of a SIP

Each state has a SIP containing, among other things, the control measures and strategies used to attain and maintain the national ambient air quality standards (NAAQS). The SIP is extensive, containing such elements as air pollution control regulations, emission inventories, monitoring networks, attainment demonstrations, and enforcement mechanisms.

B. How EPA Enforces SIPs

Each state must formally adopt the control measures and strategies to attain and maintain the NAAQS after the public has had an opportunity to comment on them and then the state must submit the proposed SIP revisions to EPA. Once these control measures and strategies are approved by EPA through notice and comment rulemaking, EPA uses the IBR process to make them part of the federally approved SIP. IBR is a method of incorporating material into EPA regulations in the Code of Federal Regulations (CFR) by referencing the original document(s) without publishing the full text of the material in the CFR. In this case, the SIP rules are identified in part 52 (Approval and Promulgation of Implementation Plans), title 40 of the CFR (40 CFR part 52). These rules are approved by EPA with a specific effective date, but are not reproduced in their entirety in 40 CFR part 52. This format allows both EPA and the public to identify which regulations are contained in a given SIP and to help determine whether the state is enforcing those regulations. This format also assists EPA and the public in taking enforcement action, should a state not enforce its SIP-approved regulations.

C. How the State and EPA Update the SIP

The SIP is periodically revised as necessary to address the unique air pollution problems in the state. Therefore, EPA must periodically take action on state SIP submissions containing new and/or revised regulations and other materials; if approved by EPA, they become part of the SIP. On May 22, 1997 (62 FR 27968), EPA revised the formatting procedures of 40 CFR part 52 for incorporating by reference federally-approved SIP revisions. These procedures include: (1) A revised SIP document for each state that would use the IBR process under the provisions of 1 CFR part 51; (2) a revised mechanism for announcing EPA approval of revisions to an applicable SIP and updating both the document that has gone through the IBR process and the CFR; and (3) a revised format of the “Identification of plan” sections for each applicable subpart in 40 CFR part 52 to reflect these revised IBR procedures. The description of the revised SIP document, IBR procedures, and “Identification of plan” format are discussed in further detail in the May 22, 1997, Federal Register document.

D. How EPA Compiles the SIPs

The federally-approved regulations and statutes and source-specific requirements (entirely or portions of) submitted by each state agency have been compiled by EPA into a “SIP compilation,” which is incorporated by reference. The SIP compilation does not contain the nonregulatory provisions (entirely or portions of) submitted by each state agency approved by EPA through previous rulemaking actions in the Federal Register.

E. How EPA Organizes the SIP Compilation

Each SIP consists of three parts. Part one contains the regulations and statutes, part two contains the source-specific requirements, and part three contains nonregulatory provisions. Each state's SIP contains a table for each of the three parts that identifies each SIP-approved regulation and statute, source-specific requirement, and nonregulatory provision. In this action, EPA is publishing the SIP tables that summarize the applicable SIP requirements for Connecticut and that will be codified at 40 CFR 52.370. The effective dates in the table indicate the date of the most recent revision to an approved regulation. EPA Regional Offices have the primary responsibility for updating the state SIPs, and the SIP compilations that are incorporated by reference, and ensuring their accuracy.

F. Where You Can Find a Copy of the SIP Compilation

EPA Region 1 has developed and will maintain the SIP compilation for Connecticut.

G. The Format of the New Identification of Plan Section

In order to better serve the public, EPA revised the organization of the section titled “Identification of plan” at 40 CFR 52.370 and included additional information to clarify the enforceable elements of the SIP. The revised format does not affect Federal enforceability of the SIP and is consistent with the requirements of section 110(h)(1) of the Clean Air Act (CAA) concerning comprehensive SIP publication.

The revised “Identification of plan” section contains five subsections:

1. Purpose and scope

2. Incorporation by reference

3. EPA approved regulations

4. EPA approved source specific requirements

5. EPA approved nonregulatory and quasi-regulatory provisions.

H. When a SIP Revision Becomes Part of the SIP and Federally Enforceable

All new requirements and revisions to the applicable SIP become federally enforceable as of the effective date of the revisions to paragraph (c), (d), or (e) of the applicable “Identification of plan” section found in each subpart of 40 CFR part 52.

I. The Historical Record of SIP Revision Approvals

To facilitate enforcement of previously approved SIP provisions and provide a smooth transition to the new SIP processing system, EPA will retain the original “Identification of plan” section, previously appearing in the CFR as the first or second section of part 52 for each state subpart. For Connecticut, the original Identification of plan section will be moved from § 52.370 to § 52.388.

II. What EPA Is Doing in This Action

We are revising the format of 40 CFR part 52 “Identification of plan” section for Connecticut regarding incorporation by reference, by adding § 52.370(c), (d), and (e), to be consistent with the format described above and in 62 FR 27968 (May 22, 1997). We are adding § 52.370(b)(1) to further clarify that all SIP revisions listed in § 52.370(c) and (d), regardless of inclusion in the most recent “update to the SIP compilation,” are federally enforceable under sections 110 and 113 of the CAA as of the effective date of the final rulemaking in which EPA approved the SIP revision. We are adding § 52.370(b)(2) to certify that the materials provided by EPA at the addresses in paragraph (b)(3) are an exact duplicate of the official state rules/regulations. We are adding § 52.370(b)(3) to update address and contact information.

This action constitutes a recordkeeping and organizational exercise to ensure that all revisions to the state programs that have occurred are accurately reflected in 40 CFR part 52. SIP revisions are controlled by EPA regulations at 40 CFR part 51.

EPA has determined that this action falls under the “good cause” exemption in sections 553(b)(4)(B) and 553(d)(3) of the Administrative Procedure Act (APA), which, upon finding “good cause,” authorizes agencies to dispense with public participation and allows an agency to make a rule effective immediately, thereby avoiding the 30-day delayed effective date otherwise provided for in the APA. This action simply reformats and codifies provisions which are already in effect as a matter of law in Federal and approved state programs. Under section 553(b)(4)(B) of the APA, an agency may find good cause where notice and public procedure are “impractical, unnecessary, or contrary to the public interest.” Public comment is unnecessary for this action because EPA is merely reformatting and codifying existing law. Immediate notice in the CFR benefits the public by removing outdated citations and making the IBR format clearer and more user-friendly.

III. Incorporation by Reference

In this rule, EPA is finalizing regulatory text that includes incorporation by reference. In accordance with requirements of 1 CFR 51.5, EPA is finalizing the incorporation by reference of regulations promulgated by Connecticut, previously approved by EPA and federally effective before August 25, 2025, contained in 40 CFR 52.370(c) and (d), described in section II. of this preamble. EPA has made, and will continue to make, these documents generally available through www.regulations.gov and at the EPA Region 1 office (please contact the person identified in the FOR FURTHER INFORMATION CONTACT section of this preamble for more information).

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely addresses administrative requirements related to previously approved state law found to meet Federal requirements and does not impose additional requirements beyond those previously imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it is an administrative action related to state program approval;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

EPA has also determined that the provisions of section 307(b)(1) of the CAA pertaining to petitions for judicial review are not applicable to this action. Prior EPA rulemaking actions for each individual component of the Connecticut SIP compilation afforded interested parties the opportunity to file a petition for judicial review in the United States Court of Appeals for the appropriate circuit within 60 days of such rulemaking action. Thus, EPA believes judicial review of this action under section 307(b)(1) is not available.

List of Subjects in 40 CFR Part 52

Environmental protection, Air pollution control, Carbon oxides, Incorporation by reference, Intergovernmental relations, Lead, Nitrogen oxides, Ozone, Particulate matter, Reporting and recordkeeping requirements, Sulfur dioxide, Volatile organic compounds.

Dated: January 23, 2026.
Mark Sanborn,
Regional Administrator, EPA Region 1.

Part 52 of chapter I, title 40 of the Code of Federal Regulations, is amended as follows:

PART 52—APROVAL AND PROMULGATION OF IMPLEMENTION PLANS

1. The authority citation for part 52 continues to read as follows:

Authority: 42 U.S.C. 7401 et seq.

Subpart H—Connecticut

§ 52.370 [Redesignated as § 52.388]

2. Section 52.370 is redesignated as § 52.388.

3. Adding a new § 52.370 to read as follows:

§ 52.370 Identification of plan.

(a) Purpose and scope. This section sets forth the applicable State implementation plan for the State of Connecticut under section 110 of the CAA, 42 U.S.C. 7401-7671q, and 40 CFR part 51 to meet national ambient air quality standards.

(b) Incorporation by reference. (1) Material listed in paragraphs (c) and (d) of this section with an EPA approval date prior to August 25, 2025, was approved for incorporation by reference by the Director of the Federal Register in accordance with 5 U.S.C. 552(a) and 1 CFR part 51. Material is incorporated as it exists on the date of the approval and notification of any change in the material will be published in the Federal Register. Entries in paragraphs (c) and (d) of this section with EPA approval dates after August 25, 2025, will be incorporated by reference in the next update to the SIP compilation.

(2) EPA Region 1 certifies that the rules/regulations provided by EPA in the SIP compilation at the addresses in paragraph (b)(3) of this section are an exact duplicate of the officially promulgated State rules/regulations which have been approved as part of the State implementation plan as of the dates referenced in paragraph (b)(1) of this section.

(3) Copies of the materials incorporated by reference may be inspected at the Region 1 EPA Office at 5 Post Office Square—Suite 100, Boston, MA 02109. To obtain the material, please call the EPA Region 1 Office. You may also inspect the material with an EPA approval date prior to August 25, 2025, at the National Archives and Records Administration (NARA). For information on the availability of this material at NARA, visit www.archives.gov/federal-register/cfr/ibr-locations or email fr.inspection@nara.gov.

(c) EPA-approved regulations.

EPA-Approved Connecticut Regulations and Statutes
State citation | Title/subject | State effective date | EPA approval date | Explanations
14-164c | Periodic Motor Vehicle Emissions Inspection and Maintenance | 05/28/2004 | 12/05/2008, 73 FR 74019 | DMV regulation revisions for test and repair network and implementing OBD2 and other tests.
22a-171 | Duties of Commissioner of Environmental Protection | 01/12/1993 | 05/19/1994, 59 FR 26123 | Associated with the Small Business Stationary Source Technical and Environmental Compliance Assistance Program.
22a-174-1 | Definitions | 11/13/2023 | 02/12/2024, 89 FR 9771 | Modified definition of “severe non-attainment area for ozone.”
|  |  |  | Note: Definitions which have been Incorporated By Reference into the Connecticut State Implementation Plan are numbered consecutively above by EPA, and do not necessarily correspond to the State's assigned definition number in the Connecticut State Regulation. It is Connecticut's practice to renumber their definitions in Section 22a-174-1 when definitions are added or deleted from the State Regulation.
22a-174-2a | Procedural Requirements for New Source Review and Title V Permitting | 11/18/2020 | 09/05/2023, 88 FR 60591 | Revisions made to 22a-174-2a(c)(3), 22a-174-2a(d)(9), 22a-174-2a(e)(3)(C), 22a-174-2a(e)(3)(E), 22a-174-2a(e)(7), 22a-174-2a(f)(2), and 22a-174-2a(f)(2)(G).
22a-174-3a | Permit to Construct and Operate Stationary Sources | 11/18/2020 | 09/05/2023, 88 FR 60591 | Revisions made to 22a-174-3a(a)(2)(A)(ii) through (v), 22a-174-3a(a)(5), 22a-174-3a(d)(3)(B) and (C), 22a-174-3a(i) Table 3a(i)-1, 22a-174-3a(i)(2), 22a- 174-3a(j)(1)(B), 22a-174-3a(j)(8)(A), 22a-174-3a(k)(3) and (4), 22a-174- 3a(k)(6)(A), 22a-174-3a(k)(7) Table 3a(k)-1, and 22a-174-3a(l)(1).
22a-174-3b | Permits for Construction and Operation of Stationary Sources | 04/04/2006 | 08/31/2006, 71 FR 51761 | Only the automotive refinishing requirements of 22a-174-3b are being approved. Connecticut did not submit the other subsections of the rule as part of its SIP revision.
22a-174-4a | Source monitoring, record keeping and reporting | 10/28/2022 | 07/08/2024, 89 FR 55888 | Replaces 22a-174-4.
22a-174-5 | Methods for Sampling, Emission Testing, and Reporting | 12/19/1980 04/15/2014 | 08/28/1981, 46 FR 43418 05/25/2016, 81 FR 33134 |
19-508-6 | Air Pollution Emergency Episode Procedures | 08/31/1979 | 12/23/1980, 45 FR 84769 |
22a-174-7 | Air Pollution Control Equipment and Monitoring Equipment Operation | 04/01/2004 | 07/16/2014, 79 FR 41427 |
19-508-8, 22a-174-8 | Compliance Plan and Schedules | 12/22/2016 | 07/31/2017, 82 FR 35454 | Minor edit to update citation.
19-508-9 | Prohibition of Air Pollution | 08/31/1979 | 08/12/1983, 48 FR 36579 |
19-508-10 | Public Availability of Information | 04/04/1972 | 10/28/1972, 37 FR 23085 |
19-508-11 | Prohibition Against Concealment or Circumvention | 04/04/1972 | 10/28/1972, 37 FR 23085 |
19-508-12 | Violations and Enforcement | 04/04/1972 | 10/28/1972, 37 FR 23085 |
19-508-13 | Variances | 08/31/1979 | 12/23/1980, 45 FR 84769 |
19-508-14 | Compliance with Regulation No Defense to Nuisance Claim | 04/04/1972 | 05/31/1972, 37 FR 10842 |
19-508-15 | Severability | 04/04/1972 | 05/31/1972, 37 FR 10842 |
19-508-16 | Responsibility to Comply with Applicable Regulations | 04/04/1972 | 05/31/1972, 37 FR 10842 |
19-508-18 | Control of Particulate Emissions | 07/11/1981 | 09/23/1982, 47 FR 41958 |
22a-174-18 | Control of Particulate Matter and Visible Emissions | 04/01/2004 | 07/16/2014, 79 FR 41427 | All of Section 22a-174-18 is approved, with the exception of the phrase “or malfunction” in Section 22a-174-18(j)(1) and all of Section 22a-174-18(j)(2), which CT DEEP withdrew from the SIP submittal. Because Connecticut withdrew Section 22a-174-18(j)(2) from its SIP submission, stationary sources subject to a Federal NSPS will remain subject to the opacity limits contained in “Control of Particulate Emissions” under the SIP (See 37 FR 10842). See Section 19-508-18, “Control of Particulate Emissions” posted at www.epa.gov/sips-ct/epa-approved-regulations-connecticut-sip.
|  | 12/22/2016 | 07/31/2017, 82 FR 35454 | Minor edit to update citation.
|  | 08/03/2018 | 10/29/2020, 85 FR 68472 | Approval of revisions to subsections (c), (f), and (j).
22a-174-19 | Control of Sulfur Compound Emissions | 11/02/1981 04/15/2014 | 11/18/1981, 46 FR 56612 05/25/2016, 81 FR 33134 |
22a-174-19a | Control of sulfur dioxide emissions from power plants and other large stationary sources of air pollution | 12/28/2000 | 07/10/2014, 79 FR 39322 | Approves the sulfur dioxide emission standards and fuel sulfur limits for units subject to the CT NOX Budget program. The following sections were not submitted as part of the SIP: Sections (a)(5); (a)(8); (a)(11); (d); (e)(4); (f); (g); (h); and in (i)(2) reference to (e)(4).
|  | 04/15/2014 | 05/25/2016, 81 FR 33134 | Revises sections 22a-174-19a(e) and 22a-174-19a(i) and removes outdated section 22a-174-19a(c).
22a-174-19b | Fuel Sulfur Content Limitations for Stationary Sources | 04/15/2014 | 05/25/2016, 81 FR 33134 | A new regulation which limits the sulfur content of liquid fuels used in stationary sources. Subsection (e) was not submitted by the State.
22a-174-20 | Control of Organic Compound Emissions | 10/28/2022 | 07/08/2024, 89 FR 55888 | Amends 22a-174-20(a)(12).
19-508-21 | Control of Carbon Monoxide Emissions | 04/04/1972 | 10/28/1972, 37 FR 23085 |
22a-174-22 | Control of Nitrogen Oxides Emissions | 01/23/1997 12/28/2000 | 10/06/1997, 62 FR 52016 07/10/2014, 79 FR 39322 | Amended by adding section (e)(3), which approves the Oct-April NOX emission limits for units subject to the CT NOX Budget program.
22a-174-22a | Nitrogen Oxides (NOX) Budget Program | 03/03/1999 | 09/28/1999, 64 FR 52233 |
|  | 09/04/2007 | 01/24/2008, 73 FR 4105 | Repealed as of January 24, 2008. Superseded by CAIR (22a-174-22c).
22a-174-22b | Post-2002 Nitrogen Oxides (NOX) Budget Program | 09/29/1999 | 12/27/2000, 65 FR 81743 |
|  | 09/04/2007 | 01/24/2008, 73 FR 4105 | Repealed as of May 1, 2010. Superseded by CAIR (22a-174-22c).
22a-174-22c | The Clean Air Interstate Rule (CAIR) Nitrogen Oxides (NOX) Ozone Season Trading Program | 12/22/2016 | 07/31/2017, 82 FR 35454 | Minor edit to update citation.
22a-174-22e | Control of nitrogen oxides emissions from fuel-burning equipment at major stationary sources of nitrogen oxides | 10/28/2022 | 07/08/2024, 89 FR 55888 | Amends 22a-174-22e(m)(1) and (m)(4).
22a-174-22f | High daily NOX emitting units at non-major sources of NOX | 12/22/2016 | 07/31/2017, 82 FR 35454 | New regulation applicable to non-major sources of NOX.
19-508-24 | Connecticut Primary and Secondary Standards | 10/08/1980 | 12/13/1985, 50 FR 50906 |
22a-174-24 | Connecticut Primary and Secondary Ambient Air Quality Standards | 04/15/2014 | 06/24/2015, 80 FR 36242 | EPA did not approve subsections (a), (c), (g), or (j) into the Connecticut State Implementation Plan (SIP). Subsection (m) Dioxin, which Connecticut withdrew from its SIP submittal was also not approved.
19-508-25 | Effective Date | 04/04/1972 | 10/28/1972, 37 FR 23085 |
22a-174-27 | Emission Standards and On-Board Diagnostic II Test Requirements for Periodic Motor Vehicle Inspection and Maintenance | 08/10/2009 | 3/17/2015, 80 FR 13768 | This SIP revision includes a change to exempt composite vehicles from tailpipe inspections. Revision to Section 22a-174-27 (b) and removal of Section 22a-174-27 (e).
22a-174-28 | Oxygenated Gasoline | 04/15/2014 | 06/24/2015, 80 FR 36242 | Amendment of subdivision (a)(5) Control period.
22a-174-30a | Stage I Vapor Recovery | 07/08/2015 | 12/15/2017, 82 FR 59519 | Replaces the repealed section 22a-174-30.
22a-174-32 | Reasonably Available Control Technology for Volatile Organic Compounds | 07/08/2015 | 12/15/2017, 82 FR 59519 | Revises section (b)(3).
22a-174-33a | Limit on Premises-wide Actual Emissions Below 50% of Title V Thresholds | 09/24/2020 | 03/11/2022, 87 FR 13936 |
22a-174-33b | Limit on Premises-wide Actual Emissions Below 80% of Title V Thresholds | 09/24/2020 | 03/11/2022, 87 FR 13936 | Approved with the exception of section (d)(6) which Connecticut withdrew from its SIP submittal.
22a-174-36 | Low Emission Vehicles | 01/29/1999 | 08/16/1999, 64 FR 44411 | Section 22a-174-36(a) through 36(f) state effective 12/23/1994; Section 22a-174-36(g) state effective 01/29/1999.
22a-174-36b | Low Emission Vehicles II Program | 08/01/2013 | 07/15/2024, 89 FR 57361 | Revises LEV II program, places end date on model year vehicles.
22a-174-36c (pdf) (141 KB) | Low Emission Vehicles III program | 08/01/2013 | 07/15/2024, 89 FR 57361 | Adopts the LEV III regulation.
22a-174-38 | Municipal Waste Combustors | 08/02/2016 | 07/31/2017, 82 FR 35454 | Portions of previously approved regulation were revised, primarily to incorporate tightened NOX emission limit for mass burn water-walled units.
22a-174-40 | Consumer Products | 10/05/2017 | 11/19/2018, 83 FR 58188 | Minor correction published 12/04/2018 (83 FR 62466), clarifying that the effective date of the final rule is December 19, 2018.
22a-174-41 | Architectural and Industrial Maintenance Products—phase 1 | 10/05/2017 | 11/19/2018, 83 FR 58188 | Minor correction published 12/04/2018 (83 FR 62466), clarifying that the effective date of the final rule is December 19, 2018.
22a-174-41a | Architectural and Industrial Maintenance Products—phase 2 | 10/05/2017 | 11/19/2018, 83 FR 58188 | Minor correction published 12/04/2018 (83 FR 62466) clarifying that the effective date of the final rule is December 19, 2018.
22a-174-44 | Adhesives and Sealants | 10/03/2008 | 06/09/2014, 79 FR 32873 |
Connecticut General Statute. Title 1, Chapter 10, Section 1-85 | Interest in conflict with discharge of duties | 10/01/1989 | 06/03/2016, 81 FR 35636 | Approves criteria for identifying a conflict of interest.
Connecticut General Statute. Title 16a, Chapter 296, Section 16a-21a | Sulfur content of home heating oil and off-road diesel fuel. Suspension of requirements for emergency. Enforcement | 07/01/2015 | 08/01/2018, 83 FR 37437 | Allowable sulfur content of fuels provided. Criteria for suspension of requirements and for enforcement identified.
Connecticut General Statute. Title 22a, Chapter 446c, Section 22a-171 | Duties of Commissioner of Energy and Environmental Protection | 10/01/1984 | 06/03/2016, 81 FR 35636 | Identifies obligations and activities of the Commissioner.
Connecticut General Statute. Title 22a, Chapter 446c, Section 22a-174(f) | Open Burning | 03/30/2000 | 09/01/2016, 81 FR 60274 | Approves criteria for open burning and process for certifying local open-burning officials.
Connecticut Public Act No. 13-120 | An act concerning gasoline vapor recovery systems | 06/18/2013 | 12/15/2017, 82 FR 59519 | Revises section 22a-174e of the Connecticut General Statutes to require decommissioning of Stage II Vapor Recovery Systems.

(d) EPA-approved State source-specific requirements.

EPA-Approved Connecticut Source-Specific Requirements
Name of source | Permit No. | State effective date | EPA approval date | Explanations
Sikorsky Aircraft Division of United Technologies Corp | Letter dated May 19, 1982 | 3/9/1982 | 11/12/1982, 47 FR 51129 | Includes Order No. 7003A.
Lydall & Foulds Division of Lydall, Inc | Letter dated January 5, 1983 | 10/13/1982 | 5/4/1983, 48 FR 20051 | Allows variance per Sulfur Energy Trade Program.
Simkins Industries | Letter dated July 19, 1983 | 12/14/1982 | 6/28/1983, 48 FR 29689 | Allows variance per Sulfur Energy Trade Program.
Loomis Institute | Letter dated July 13, 1983 | 5/24/1983 | 12/20/1983, 48 FR 56218 | Allows variance per Sulfur Energy Trade Program.
Connecticut Charcoal Company | Order No. 943 | 5/28/1986 | 11/20/1986, 51 FR 41963
King Industries | Order No. 944 | 4/23/1986 | 2/19/1987, 52 FR 5104
Belding Corticelli Thread Company | Order No. 8007 | 8/8/1987 | 12/17/1987, 52 FR 47925
Raymark Industries, Inc | Order No. 8013 | 9/24/1987 | 4/11/1988, 53 FR 11847 | Includes Compliance Timetable.
American Cyanamid Company | Order No. 8012 | 1/6/1988 | 8/1/1988, 53 FR 28884 | Includes Compliance Timetable.
Spongex International, Ltd | Order No. 8008 | 8/21/1987 | 7/12/1988, 53 FR 26256 | Includes Compliance Timetable.
General Motors Corporation | Order No. 8023 | 7/8/1988 | 3/24/1989, 54 FR 12193 | Includes Compliance Timetable.
Frismar, Inc | Order No. 8001 | 10/20/1987 | 11/28/1989, 54 FR 48885 | Includes Compliance Timetable.
Stanadyne, Inc | Order No. 8018 | 1/3/1989 | 4/10/1989, 54 FR 14226 | Includes Compliance Timetable.
Hamilton Standard Division of United Technologies Corp | Order No. 8029 | 11/29/1989 | 3/12/1990, 55 FR 9121 | Includes Compliance Timetable.
Stone Connecticut Paperboard Corporation | Order No. 1073B | 2/25/1992 | 11/20/1992, 57 FR 54703
Hartford Hospital | Order No. 7016A | 2/5/1992 | 11/20/1992, 57 FR 54703 | Includes Compliance Timetable.
Connecticut Light and Power Company | Order No. 7017 | 2/25/1991 | 3/24/1992, 57 FR 10139 | Includes Compliance Timetable.
United Technologies Corporation | Order No. 7019 | 2/19/1993 | 1/18/1994, 59 FR 2530
City of New Haven | Order No. 8073 | 9/24/1993 | 9/11/1995, 60 FR 47076
Waterfront Enterprises, Inc | Order No. 8074 | 11/5/1993 | 9/11/1995, 60 FR 47076
Laydon Construction | Order No. 8075 | 9/21/1993 | 9/11/1995, 60 FR 47076
United Illuminating Company | Order No. 8076 | 12/2/1993 | 9/11/1995, 60 FR 47076
M.J. Metals, Inc | Order No. 8076c | 6/18/1993 | 9/11/1995, 60 FR 47076
New Haven Terminal, Inc | Order No. 8078 | 11/15/1993 | 9/11/1995, 60 FR 47076
Yankee Gas Services Company | Order No. 8079 | 9/24/1993 | 9/11/1995, 60 FR 47076
United Illuminating Company | Trading Agreement and Order No. 8092 | 5/18/1995 | 10/6/1997, 62 FR 52016
American Ref-Fuel Company of Southeastern Connecticut | Trading Agreement and Order No. 8095 | 6/2/1995 | 10/6/1997, 62 FR 52016
Pfizer, Inc | Trading Agreement and Order No. 8093 | 7/19/1995 | 10/6/1997, 62 FR 52016
Connecticut Light and Power Company | Trading Agreement and Order No. 8096 | 10/10/1995 | 10/6/1997, 62 FR 52016
Northeast Nuclear Energy Company | Trading Agreement and Order No. 8106 | 10/13/1995 | 10/6/1997, 62 FR 52016
Northeast Nuclear Energy Company | Trading Agreement and Order No. 8107 | 10/13/1995 | 10/6/1997, 62 FR 52016
General Dynamics Corporation, Electric Boat Division | Trading Agreement and Order No. 8105 | 10/31/1995 | 10/6/1997, 62 FR 52016
Bridgeport Resco Company, Limited Partnership | Trading Agreement and Order No. 8100 | 11/2/1995 | 10/6/1997, 62 FR 52016
United Illuminating Company | Trading Agreement and Order No. 8102 | 12/15/1995 | 10/6/1997, 62 FR 52016
United Illuminating Company | Trading Agreement and Order No. 8103 | 2/14/1996 | 10/6/1997, 62 FR 52016
City of Norwich Department of Public Utilities | Trading Agreement and Order No. 8119 | 3/4/1996 | 10/6/1997, 62 FR 52016
South Norwalk Electric Works | Trading Agreement and Order No. 8118 | 3/19/1996 | 10/6/1997, 62 FR 52016
State of Connecticut Department of Mental Health and Addiction Services | Trading Agreement and Order No. 8101 | 7/16/1996 | 10/6/1997, 62 FR 52016
Yale University | Trading Agreement and Order No. 8110 | 7/29/1996 | 10/6/1997, 62 FR 52016
Bridgeport Hospital | Trading Agreement and Order No. 8132 | 9/10/1996 | 10/6/1997, 62 FR 52016
Connecticut Light and Power Company | Order No. 1494 | 10/15/1996 | 10/6/1997, 62 FR 52016
State of Connecticut Department of Public Works | Trading Agreement and Order No. 8130 | 10/18/1996 | 10/6/1997, 62 FR 52016
University of Connecticut | Trading Agreement and Order No. 8115 | 11/19/1996 | 10/6/1997, 62 FR 52016
Simkins Industries | Trading Agreement and Order No. 8113 | 11/19/1996 | 10/6/1997, 62 FR 52016
Bridgeport Hydraulic Company | Trading Agreement and Order No. 8135 | 12/24/1996 | 10/6/1997, 62 FR 52016
Town of Wallingford Department of Public Utilities | Trading Agreement and Order No. 8141 | 12/27/1996 | 10/6/1997, 62 FR 52016
Algonquin Gas Transmission Company | Trading Agreement and Order No. 8123 | 4/18/1997 | 10/6/1997, 62 FR 52016
Connecticut Resources Recovery Authority | Trading Agreement and Order No. 8116 | 4/221997 | 10/6/1997, 62 FR 52016
Risdon Corporation | Order No. 8036 | 5/6/1996 | 4/24/1998, 63 FR 20315
AlliedSignal, Inc. and U.S. Army Tank-Automotive and Armaments Command | Trading Agreement and Order No. 8137 | 11/19/1996 | 9/28/1999, 64 FR 52233
Connecticut Natural Gas Corporation | Trading Agreement and Order No. 8138 | 11/19/1996 | 9/28/1999, 64 FR 52233
Cytec Industries, Inc | Trading Agreement and Order No. 8114 | 12/20/1996 | 9/28/1999, 64 FR 52233
CTG Resources, Inc. (Formerly The Connecticut Natural Gas Company) | Trading Agreement and Order No. 8138 Modification | 6/25/1997 | 9/28/1999, 64 FR 52233
AlliedSignal, Inc. and U.S. Army Tank-Automotive and Armaments Command | Trading Agreement and Order No. 8137 Modification | 7/8/1997 | 9/28/1999, 64 FR 52233
Ogden Martin Systems of Bristol, Inc | Trading Agreement and Order No. 8094 | 7/23/1997 | 9/28/1999, 64 FR 52233
Wisvest-Connecticut, LLC | Trading Agreement and Order No. 8177 | 5/31/2000 | 3/23/2001, 66 FR 16135
Wisvest-Connecticut, LLC | Trading Agreement and Order No. 8187 | 1/12/2000 | 3/23/2001, 66 FR 16135
Ogden Martin Systems of Bristol, Inc | Trading Agreement and Order No. 8094 Modification 2 | 5/22/2000 | 3/23/2001, 66 FR 16135
American Ref-Fuel Company of Southeastern Connecticut | Trading Agreement and Order No. 8095 Modification 2 | 5/22/2000 | 3/23/2001, 66 FR 16135
Bridgeport Resco Company, Limited Partnership | Trading Agreement and Order No. 8100 Modification 2 | 5/22/2000 | 3/23/2001, 66 FR 16135
Connecticut Resources Recovery Authority | Trading Agreement and Order No. 8116 Modification 2 | 5/22/2000 | 3/23/2001, 66 FR 16135
Wisvest-Connecticut, LLC | Trading Agreement and Order No. 8178 | 5/22/2000 | 3/23/2001, 66 FR 16135
Wisvest-Connecticut, LLC | Trading Agreement and Order No. 8179 | 5/22/2000 | 3/23/2001, 66 FR 16135
Wisvest-Connecticut, LLC | Trading Agreement and Order No. 8176 | 5/31/2000 | 3/23/2001, 66 FR 16135
Hitchcock Chair Company, Ltd | Order No. 8229A | 4/15/2002 | 10/24/2005, 70 FR 61384
Kimberly-Clark Corporation | Order No. 8190 | 4/23/2002 | 10/24/2005, 70 FR 61384
Ross & Roberts, Inc | Order No. 8237 | 10/4/2002 | 10/24/2005, 70 FR 61384
Sumitomo Bakelite North America, Inc | Order No. 8245 | 10/11/2006 | 6/27/2013, 78 FR 38587
Cyro Industries | Order No. 8268 | 2/28/2007 | 6/27/2013, 78 FR 38587
Curtis Packaging Corporation | Order No. 8270 | 5/1/2007 | 6/27/2013, 78 FR 38587
PSEG Power Connecticut LLC (formerly Wisvest Connecticut LLC) | Trading Agreement and Order No. 8187 Modification 1 | 7/16/2012 | 8/3/2015, 80 FR 45887
PSEG Power Connecticut LLC | Trading Agreement and Order No. 8242 Modification 1 | 7/16/2012 | 8/3/2015, 80 FR 45887
Mallace Industries Corporation | Order No. 8258 | 9/13/2005 | 5/1/2017, 82 FR 20262
Hamilton Sundstrand | Order No. 8029A | 9/3/2009 | 5/1/2017, 82 FR 20262
Middletown Power LLC, Montville Power LLC, Connecticut Jet Power LLC, and Devon Power LLC | Consent Order No. 8377, Modification 1 | 5/3/2022 | 6/28/2022, 87 FR 38284 | General Bridge Acquisition LLC purchased the collective sources referred to as “NRG Connecticut” in past references for Consent Order 8377.
Thames Shipyard & Repair Company | Consent Order No. 8381 | 12/3/2021 | 7/24/2025, 90 FR 34768 | EPA action also removed from the SIP: Dow Chemical U.S.A. Order # 7002B and Pratt & Whitney Order # 8027.

(e) Nonregulatory.

Connecticut Non Regulatory
Name of non-regulatory SIP provision | Applicable geographic or nonattainment area | State submittal date/ effective date | EPA approved date | Explanations
Miscellaneous non-regulatory addition to the plan and addition of amendment to Chapter 360 of General Statutes which provides authority for delegation of enforcement authority submitted on March 21, 1972, by the Connecticut Department of Environmental Protection |  | 3/21/1972 | 5/31/1972, 37 FR 10842
Miscellaneous non-regulatory additions to the plan submitted on April 6, 1972, by the Connecticut Department of Environmental Protection |  | 4/6/1972 | 5/31/1972, 37 FR 10842
Attainment dates submitted on August 10, 1972 by CT DEP |  | 8/10/1972 | 5/14/1973, 38 FR 12696
Non-regulatory additions to the plan which were submitted on December 19, 1980, and amended on March 11, 1981, by CT DEP |  | 12/19/1980 and 3/11/1981 | 8/28/1981, 46 FR 43418 | Amending the sulfur control strategy to include an “Air Pollution Control/Energy Trade Option” except for submittal attachments #1 and #2, “Sulfur Dioxide” and “Transport of Sulfur Dioxide” and the section of attachment #3 “Control of Sulfur Oxides” entitled “Sample Analysis of a Btu Bubble Application”.
Non-regulatory addition to the plan of the state New Source Ambient Impact Analysis Guideline |  | 12/19/1980; 3/11/1981; and 7/15/1981 | 8/28/1981, 46 FR 43418 | For use in state program actions, submitted on December 19, 1980 and amended on March 11, 1981 and July 15, 1981.
Source Test Guidelines and Procedures; and Workshop Manual for Gasoline Tank Truck Certification |  |  | 7/18/1985, 50 FR 29229 | Includes Appendix B of Control of Volatile Organic Compound Leaks from Gasoline Tank Trucks and Vapor Collection Systems EPA-450/2-78-051.
Letter dated May 16, 1985 certifying the meaning of an “Acceptable Method” |  | 5/16/1985 | 12/13/1985, 50 FR 50906 | Interpreted to mean that any monitoring method used to collect ambient air pollution data used for attainment status evaluation or designation must be approved by EPA.
Technical Support Document prepared by CT DEP |  |  | 4/11/1988, 53 FR 11847 | Provides complete description of the reasonably available control technology determination imposed on Raymark Industries.
Letter from CT DEP dated July 3, 1986 |  | 7/3/1986 | 5/19/1988, 53 FR 17934 | Commits CT DEP to use only EPA approved test methods when requiring the testing of sources emitting volatile organic compound emissions.
Letter from CT DEP dated May 29, 1987 |  | 5/29/1987 | 5/19/1988 | Certifies that there are no polypropylene or high-density polyethylene manufacturers in the State of Connecticut.
Technical Support Document prepared by CT DEP |  |  | 7/12/1988, 53 FR 26256 | Provides complete description of the reasonably available control technology determination imposed on Spongex International, Ltd.
Technical Support Document prepared by CT DEP |  |  | 8/1/1988, 53 FR 28884 | Provides complete description of the reasonably available control technology determination imposed on American Cyanamid Co.
Technical Support Document prepared by CT DEP |  |  | 3/24/1989, 54 FR 12193 | Provides complete description of the reasonably available control technology determination imposed on New Departure Hyatt.
Technical Support Document prepared by CT DEP |  |  | 4/10/1989, 54 FR 14226 | Provides complete description of the reasonably available control technology determination imposed on Stanadyne, Inc.
Technical Support Document prepared by CT DEP |  |  | 5/30/1989, 54 FR 22891 | Provides complete description of the reasonably available control technology determination imposed on Pratt and Whitney's East Hartford facility.
Technical Support Document prepared by CT DEP |  |  | 11/28/1989, 54 FR 48885 | Provides complete description of the reasonably available control technology determination imposed on Frismar, Inc.
Technical Support Document prepared by CT DEP |  |  | 3/12/1990, 55 FR 9121 | Provides complete description of the reasonably available control technology determination imposed on Hamilton Standard.
Memorandum dated September 14, 1990 approving modeling analysis for Connecticut Light and Power |  | 9/14/1990 | 3/24/1992, 57 FR 10139
Letter dated April 3, 1991 confirming that the revised configuration approved by State Order No. 7017 will not lead to violations |  | 4/3/1991 | 3/24/1992, 57 FR 10139
Modeling Study dated January 26, 1990 for Connecticut Light and Power |  | 1/28/1990 | 3/24/1992, 57 FR 10139
Memorandum dated August 17, 1989 approving modeling analysis for Stone Container Co |  | 8/17/1989 | 11/20/1992, 57 FR 54703
Modeling Study dated August 9, 1989 for Stone Container Co |  | 8/9/1989 | 11/20/1992, 57 FR 54703
State Order No 1073A, effective July 9, 1990 |  | 7/9/1990 | 11/20/1992, 57 FR 54703
Memorandum dated January 3, 1990 approving modeling analysis for Hartford Hospital |  | 1/3/1990 | 11/20/1992, 57 FR 54703
Modeling Study dated December 28, 1989 for Hartford Hospital |  | 12/28/1989 | 11/20/1992, 57 FR 54703
SIP narrative entitled “New Source Review” |  |  | 2/23/1993, 56 FR 10957
Letter from CT DEP regarding implementation of BACT |  |  | 2/23/1993, 56 FR 10957
Narrative of SIP Revision: Stage II Vapor Recovery |  | January 1993 | 12/17/1993, 58 FR 65930
Air Quality Modeling Analysis to Demonstrate SO2 CAAQS/NAAQS Compliance |  | June 1991 | 1/18/1994, 59 FR 2530 | Relates to Hamilton Standard Division of United Technologies Corporation.
Letter from CT DEP dated April 6, 1994 clarifying the January 12, 1993 submittal |  | 4/6/1994 | 5/19/1994, 59 FR 26123
An attainment plan and demonstration which outlines Connecticut's control strategy and for attainment and maintenance of the PM10 NAAQS |  |  | 9/11/1995, 60 FR 47076 | Implements and meets RACM and RACT requirements, and provides contingency measures for New Haven.
Letter dated June 18, 1996 from CT DEP and SIP narratives for various Source Orders |  | 6/18/1996 | 10/6/1997, 62 FR 52016 | SIP narratives for Order Nos. 8092, 8095, 8093, 8096, 8106, 8107, 8105, 8100, and others.
Letter from CT DEP dated June 27, 1994 clarifying language in sec 22a-174-32(A) |  | 6/27/1994 | 3/10/1999, 64 FR 12019
Letters from CT DEP dated June 24, 1998 and November 13, 1998 submitting CT SIP revisions |  | 6/24/1998 and 11/13/1998 | 3/10/1999, 64 FR 12005
Nonregulatory portions of submittals and Policy materials concerning the use of emission credits from New Jersey at Connecticut sources |  | 7/11/1997, 9/12/1997, and 12/8/1997 | 9/28/1999, 64 FR 52233
Letter from CT DEP dated October 7, 1999 submitting a revision to the CT SIP |  | 10/7/1999 | 12/1/1999, 64 FR 67188
Letter from CT DEP dated February 7, 1996 submitting a revision to the CT SIP for the Low Emission Vehicle Program |  | 2/7/1996 | 3/9/2000, 65 FR 12476
Letter from CT DEP dated February 18, 1999 submitting a revision to the CT SIP |  | 2/7/1996 | 3/9/2000, 65 FR 12476 | Request for the National Low Emission Vehicle program to be a compliance option under the State's Low Emission Vehicle Program.
Letters from CT DEP dated April 15, 1997, April 20, 1998, and September 2, 1999 submitting revisions to the CT SIP |  | 4/15/1997, 4/20/1998, and 9/2/199 | 10/19/2000, 65 FR 62620
Letter from CT DEP dated November 19, 1999 submitting a revision to the CT SIP |  | 11/19/1999 | 10/27/2000, 65 FR 64357
Narrative portion of the SIP revision for Enhanced Motor Vehicle Inspection and Maintenance Program |  | 10/7/1999 | 10/27/2000, 65 FR 64357
Letter from CT DEP dated September 30, 1999 submitting a revision to the CT SIP |  | 9/30/1999 | 12/27/2000, 65 FR 81743 | Contains RCSA section 22a-174-22b and associated administrative materials.
SIP Narrative dated September 30, 1999 for CT SIP revision |  | 9/30/1999 | 12/27/2000, 65 FR 81743 | SIP revision to implement the NOX SIP Call.
Letter from CT DEP dated May 19, 2000 submitting a revision to the CT SIP |  | 5/19/2000 | 3/23/2001, 66 FR 16135
SIP narrative materials |  | December 1999 | 3/23/2001, 66 FR 16135 | Submitted with Source Order Nos. 8176, 8177, 8178, 8179, and 8187.
Letter from CT DEP dated October 15, 2001 submitting a revision to the CT SIP |  | 10/15/2001 | 12/6/2001, 66 FR 63311
Letter from CT DEP dated June 14, 2002 submitting a revision to the CT SIP |  | 6/14/2002 | 2/27/2003, 68 FR 9009
Pressure Vacuum Vent Cap Test Procedures |  |  | 8/31/2006, 71 FR 51765
Table 1 showing the emission reductions resulting form the measures Connecticut adopted to meet the shortfall identified in the Connecticut on-hour ozone attainment demonstration |  |  | 8/31/2006, 71 FR 51765
Connecticut Regional Haze SIP Revision |  | Nov. 2009 | 7/10/14, 79 FR 39322
Letter from CT DEEP dated March 12, 2012 |  | 3/12/2012 | 7/10/14, 79 FR 39322 | Clarification of Connecticut's 2008 PM2.5 Attainment Demonstration.
Letter from CT DEEP dated February 24, 2012 regarding Regional Haze SIP |  | 2/24/2012 | 7/10/14, 79 FR 39322
Letter from CT DEEP dated November 23, 2012 |  | 11/23/2012 | 7/10/14, 79 FR 39322 | Withdrawal of Request for Parallel Processing.
Letter from CT DEEP dated January 14, 2013, entitled “Information to Support EPA's Approval of Connecticut's Requirements for Opacity” |  | 1/14/2013 | 7/16/14, 79 FR 41436
Letter from CT DEEP dated July 8, 2013 |  | 7/8/2013 | 7/16/14, 79 FR 41436 | Withdrawing from CT DEEP's December 1, 2004 SIP revision the phrase “and malfunction” from Subsection (j)(1) of RCSA Section 22a-174-18.
Letter from CT DEEP dated March 27, 2014 |  | 3/27/2014 | 7/16/14, 79 FR 41436 | Withdrawing from CT DEEP's December 1, 2004 SIP revision section 22a-174-18(j)(2).
Adequacy Determination of the Connecticut SIP with Regard to CAA Section 110(a)(1) and (2) for the 8-Hr Ozone NAAQS Program Infrastructure |  | 12/28/2007 | 6/3/16, 81 FR 35639
Adequacy Determination of the Connecticut SIP with Regard to CAA Section 110(a) Infrastructure Elements: 1997 PM2.5 NAAQS |  | 9/4/2008 | 6/3/16, 81 FR 35639
Adequacy Determination of the Connecticut SIP with Regard to CAA Section 110(a)(1) and (2) for 2006 PM2.5 NAAQS |  | 9/18/2009 | 6/3/16, 81 FR 35639
CT DEEP document dated January 7, 2011 |  | 1/7/2011 | 6/3/16, 81 FR 35639 | Request to withdraw a portion of Connecticut's PM2.5 Infrastructure Adequacy Determination.
Addendum to the CAA section 110(a)(2)(D)(i)(I) Portion of Connecticut's Infrastructure Submittal for the 2006 PM2.5 NAAQS |  | 8/19/2011 | 6/3/16, 81 FR 35639
Adequacy Determination of the CT SIP with Regard to CAA section 110(a)(1) and (2) for the 2008 Lead NAAQS |  | 10/13/2011 | 6/3/16, 81 FR 35639
Update to Connecticut PM2.5 Infrastructure submittal |  | 6/15/2012 | 6/3/16, 81 FR 35639
CT SIP with Regard to the Infrastructure Requirements of CAA section 110(a)(1) and (2) for the 2008 Ozone NAAQS |  | 12/28/2012 | 6/3/16, 81 FR 35639
CT SIP with Regard to the Infrastructure Requirements of CAA section 110(a)(1) and (2) for the 2010 Nitrogen Dioxide NAAQS |  | 1/2/2013 | 6/3/16, 81 FR 35639
Connecticut SIP for CAA Section 110(a) Infrastructure Elements: 2010 Sulfur Dioxide NAAQS |  | 5/30/2013 | 6/3/16, 81 FR 35639
Supplement to Infrastructure SIP Revisions |  | 8/5/2015 | 6/3/16, 81 FR 35639
Letter from CT DEEP dated September 14, 2015, submitting a revision to the SIP |  | 9/14/2015 | 12/15/17, 82 FR 59519
Addendum to the CAA § 110(a)(2)(D)(i)(I) Portion of Connecticut's Infrastructure Submittal for the 2006 PM2.5 NAAQS |  | 8/19/2011 | 8/1/18, 83 FR 37437
Infrastructure SIP for the 2012 PM2.5 NAAQS |  | 12/14/2015 | 8/1/18, 83 FR 37437
Letter from CT DEEP dated October 18, 2017, submitting a revision to the SIP |  | 10/18/2017 | 8/1/18, 83 FR 37437 | SIP revision concerning Consumer Products, Architectural and Industrial Maintenance Coatings and Prevention of Significant Deterioration Permit Programs.
Regional Haze 5-Yr Progress Report |  | 7/8/2015 | 11/26/19, 84 FR 65007
Good Neighbor SIP for the 2008 Ozone NAAQS |  | 6/11/2015 | 2/14/20, 85 FR 8406
Infrastructure SIP submittal for 2015 Ozone NAAQS |  | 9/7/2018 | 8/19/20, 85 FR 50953
Good Neighbor SIP for the 2015 Ozone NAAQS |  | 12/6/2018 | 12/20/21, 86 FR 71830
Letter from CT DEEP dated October 26, 2020, submitting a revision to the SIP |  | 10/26/2020 | 3/11/22, 87 FR 13936 | Letter from CT DEEP dated January 12, 2022 withdrawing regulation section 22a-174-33b(d)(6) from the SIP revision.
Letters from CT DEEP dated December 15, 2020 and February 14, 2023, submitting a revision to the SIP |  | 12/15/2020 | 9/5/23, 88 FR 60591 | SIP revision concerning the New Source Review Permit Program Update.
Letter from CT DEEP dated November 30, 2023, submitting a revision to the SIP |  | 11/30/2023 | 2/12/24, 89 FR 9771 | SIP revision concerning the Definition of Severe non-Attainment Area for Ozone.
Regional Haze plan for Second Implementation Period (2018-2028) |  | 1/5/2022 | 9/17/24, 89 FR 75973
Second 10-year Limited Maintenance Plan for Connecticut's PM2.5 Maintenance Area |  | 5/9/2023 | 11/15/2024, 89 FR 90230
Attainment Plan SIP elements for Connecticut's Serious Nonattainment area under the 2008 Ozone NAAQS |  | 6/23/2022 | 4/1/2025, 90 FR 14341 | Pertains to requirements for Reasonable Further Progress (RFP), enhanced motor vehicle inspection and maintenance (I/M) program, motor vehicle emission budgets for transportation conformity, and a clean fuels for motor vehicles program.
Letter from CT DEEP dated May 22, 2023, submitting a revision to the SIP |  | 5/22/2023 | 4/22/25, 90 FR 16814 | SIP revision concerning New Source Review certification for the Greater CT Moderate Nonattainment area under the 2015 Ozone NAAQS and an Emission Statement certification for both the Greater CT and the Southwest CT Moderate Nonattainment areas under the 2015 Ozone NAAQS.
Letter from CT DEEP dated May 3, 2024, submitting a revision to the SIP |  | 5/3/2024 | 7/16/25, 90 FR 31881 | SIP revision concerning a 2017 Base Year Emissions Inventory for the 2015 Ozone NAAQS. Submittal also includes 2014 and 2017 Periodic Emission Inventories for the 2008 Ozone NAAQS, approved under separate action.

4. Newly redesignated § 52.388 is amended by revising the section heading and paragraph (a) to read as follows:

§ 52.388 Original identification of plan section.

(a) This section identified the original “State of Connecticut Air Implementation Plan” and all revisions submitted by Connecticut that were federally-approved prior to August 25, 2025.

* * * * *

[FR Doc. 2026-02477 Filed 2-6-26; 8:45 am]

BILLING CODE 6560-50-P